LEGAL SERVICES CORPORATION

Sunshine Act Meeting of the Board of Directors

Amended Notice

Call-In Directions for Open Session Meetings

This is an amendment to the notice of the Legal Services Corporation (“LSC” or “Corporation”) Board of Directors (“Board”) and committee meetings scheduled for July 27, 2012. The notice was published on July 19, 2012, at 77 FR 42513. This amendment is being made for the sole purpose of adding a phone number for dialing into the Audit Committee meeting. There are no other changes to the notice published on July 19th.

DATE AND TIME: The Legal Services Corporation's Board of Directors and its six committees will meet on July 27, 2012. The meetings will occur in the order noted below, with the first meeting commencing at 8:30 a.m., Eastern Daylight Time, and each meeting thereafter commencing promptly upon adjournment of the immediately preceding meeting. The exception will be the meetings of the Institutional Advancement Committee and the Audit Committee, which will run concurrently immediately upon conclusion of the meeting of the Governance and Performance Review Committee.

LOCATION: Sheraton Ann Arbor Hotel, 3200 Boardwalk Drive, Ann Arbor, Michigan 48108.

PUBLIC OBSERVATION: Unless otherwise noted herein, the Board and all committee meetings will be open to public observation. Members of the public who are unable to attend in person but wish to listen to the public proceedings may do so by following the telephone call-in directions provided below but are asked to keep their telephones muted to eliminate background noises. To avoid disrupting the meeting, please refrain from placing the call on hold. From time to time, the presiding Chair may solicit comments from the public.

Amended Call-In Directions for Open Sessions:

• Call toll-free number: 1-866-451-4981;

• When prompted, enter the following numeric pass code: 5907707348 (or 2755431953 to access the Audit Committee meeting);

• When connected to the call, please immediately “MUTE” your telephone.

Meeting Schedule

Friday, July 27, 2012: Time *—8:30 a.m.

*Please note that all times in this notice are in the Eastern Daylight Time.

1. Governance & Performance Review Committee

2. Institutional Advancement Committee **

**The meeting of the Institutional Advancement Committee will run concurrently with the meeting of the Audit Committee.

3. Audit Committee **

4. Finance Committee

5. Promotion & Provision for the Delivery of Legal Services Committee

6. Operations & Regulations Committee

7. Board of Directors

STATUS OF MEETING: Open, except as noted below.

Board of Directors—Open, except that, upon a vote of the Board of Directors, a portion of the meeting may be closed to the public to hear briefings by management and LSC's Inspector General, and to consider and act on the General Counsel's report on potential and pending litigation involving LSC.***

***Any portion of the closed session consisting solely of briefings does not fall within the Sunshine Act's definition of the term “meeting” and, therefore, the requirements of the Sunshine Act do not apply to such portion of the closed sesion. 5 U.S.C. 552b(a)(2) and (b). See also 45 CFR 1622.2 & 1622.3.

Institutional Advancement Committee—Open, except that, upon a vote of the Board of Directors, the meeting may be closed to the public to hear a briefing from a development consultant and to consider and act on a draft development plan for the Corporation.

A verbatim written transcript will be made of the closed session of the Board and Institutional Advancement Committee meetings. The transcript of any portions of the closed session falling within the relevant provisions of the Government in the Sunshine Act, 5 U.S.C. 552b(c)(9) and (10), and the corresponding provision of the Legal Services Corporation's implementing regulations, 45 CFR 1622.5(g) and (h), will not be available for public inspection. A copy of the General Counsel's Certification that in his opinion the closing is authorized by law will be available upon request.

MATTERS TO BE CONSIDERED:

Governance & Performance Review Committee

1. Approval of agenda

2. Approval of minutes of the Committee's meeting of April 15, 2012

3. Staff report on certification letter sent to House and Senate Appropriations Committees

4. Staff report on progress in implementing GAO recommendations

5. Consider and act on other business

6. Public comment

7. Consider and act on motion to adjourn meeting

Audit Committee

1. Approval of agenda

2. Approval of minutes of the Committee's June 25, 2012 meeting

3. Report on 403(b) annual plan review and update on annual audit

Traci Higgins, Director, Office of Human Resources

4. Consider and act on revised Audit Committee charter

5. Briefing by Office of Inspector General

Jeffrey Schanz, Inspector General

6. Public comment

7. Consider and act on other business

8. Consider and act on adjournment of meeting

Institutional Advancement Committee

Open Session

1. Approval of agenda

2. Approval of minutes of the Committee's meeting of April 15, 2012

3. Discussion of Committee work for August—September

4. Public comment

5. Consider and act on other business

Closed Session

6. Briefing by Bob Osborne Development Consultant

7. Consider and act on a draft Development Plan for the Corporation

8. Consider and act on motion to adjourn the meeting

Finance Committee

1. Approval of agenda

2. Presentation on LSC's Financial Reports for the first eight months of FY 2012

Presentation by David Richardson, Treasurer/Comptroller

3. Consider and act on a Revised Consolidated Operating Budget for FY 2012, including internal budgetary adjustments and COB reallocation, and recommendation of Resolution 2012-XXX to the Board of Directors

Presentation by David Richardson, Treasurer/Comptroller

4. Review of the Guidelines for Adoption, Review and Modification of the Consolidated Operating Budget

Presentation by David Richardson, Treasurer/Comptroller

5. Discussion regarding the status of the FY 2013 appropriation process

Carol Bergman, Director, Government Relations and Public Affairs

6. Consider and act on recommendation to the Board of Directors for FY 2014 Budget Request

Presentation by Carol Bergman, Director, Government Relations and Public Affairs

Comments by David Richardson, Treasurer/Comptroller

7. Public comment

8. Consider and act on other business

9. Consider and act on adjournment of meeting

Promotion & Provision for the Delivery of Legal Services Committee

1. Approval of Agenda

2. Approval of Minutes of the Committee's meeting of April 16, 2012

3. Panel Presentation on diversification and expansion of revenue sources

• Moderator—Meredith McBurney, Resource Development Consultant for ABA Resource Center for Access to Justice Initiatives and Management Information Exchange

• Steven Gottlieb, Executive Director, Atlanta Legal Aid Society

• Daniel Glazier, Executive Director, Legal Services of Eastern Missouri

• Jennifer Bentley, Manager of Outreach and Development, Legal Services of South Central Michigan

• Deierdre Weir, Executive Director, Legal Aid and Defender Association

4. Public comment

5. Consider and act on other business

6. Consider and act on motion to adjourn the meeting

Operations & Regulations Committee

1. Approval of agenda

2. Approval of minutes of the Committee's meeting of June 18, 2012

3. Consider and act on proposed revisions to the Committee's charter

4. Consider and act on possible revisions to the Corporation's Continuation of Operations Plan (“COOP”)

5. Consider and act on rulemaking on grant termination procedures, enforcement mechanisms, and suspension procedures

Mark Freedman, Senior Assistant General Counsel

Matthew Glover, Associate Counsel to the Inspector General

Public comment

6. Public comment

7. Consider and act on other business

8. Consider and act on adjournment of meeting

Board of Directors

1. Pledge of Allegiance

2. Approval of agenda

3. Approval of Minutes of the Board's meeting of May 21, 2012

4. Presentation of the Report of the Pro Bono Task Force

5. Consider and act on the draft Strategic Plan

6. Chairman's Report

7. Members' Reports

8. President's Report

9. Inspector General's Report

10. Consider and act on the report of the Promotion and Provision for the Delivery of Legal Services Committee

11. Consider and act on the report of the Finance Committee

12. Consider and act on the report of the Audit Committee

13. Consider and act on the report of the Operations and Regulations Committee

14. Consider and act on the report of the Governance and Performance Review Committee

15. Consider and act on the report of the Institutional Advancement Committee

16. Consider and act on delegation of authority to the LSC Board Chairman to appoint non-directors to serve on LSC Board committees

17. Consider and act on a resolution acknowledging the recent passing of former LSC Board member Thomas A. Fuentes

18. Public comment

19. Consider and act on other business

20. Consider and act on whether to authorize an executive session of the Board to address items listed below, under Closed Session

Closed Session

21. Approval of minutes of the Board's closed session meeting of April 16, 2012

22. Briefing by Management

23. Briefing by the Inspector General

24. Consider and act on General Counsel's report on potential and pending litigation involving LSC

25. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 20, 2012.
Victor M. Fortuno,
Vice President & General Counsel.

[FR Doc. 2012-18175 Filed 7-20-12; 4:15 pm]

BILLING CODE 7050-01-P